DEPARTMENT OF AGRICULTURE

Forest Service

Meeting of the Land Between The Lakes Advisory Board

AGENCY: Forest Service, USDA.

ACTION: Notice of Meeting.

SUMMARY: The Land Between The Lakes Advisory Board will hold a meeting on Thursday, February 21, 2002. Notice of this meeting is given under the Federal Advisory Committee Act, 5 U.S.C. App.2.

The meeting agenda includes the following:

(1) Welcome, Introductions, Agenda

(2) User Data

(3) Public Survey for Planning

(4) Area Planning—Public Participation Models

(5) Trust Fund Financial Review

(6) Discussion of Public Comments Received

(7) FS Community Efforts

The meeting is open to the public. Written comments are invited and may be mailed to: William P. Lisowsky, Area Supervisor, Land Between The Lakes, 100 Van Morgan Drive, Golden Pond, Kentucky 42211. Written comments must be received at Land Between The Lakes by February 13, 2002, in order for copies to be provided to the members at the meeting. Board members will review written comments received, and at their request, oral clarification may be requested at a future meeting.

DATES: The meeting will be held on Thursday, February 21, 2002, 8:30 a.m. to 3 p.m., CST.

ADDRESSES: The meeting will be held at the Kenlake State Resort Park and will be open to the public.

FOR FURTHER INFORMATION CONTACT: Sharon Byers, Advisory Board Liaison, Land Between The Lakes, 100 Van Morgan Drive, Golden Pond, Kentucky 42211, 270-924-2002.

SUPPLEMENTARY INFORMATION: None.

Dated: January 22, 2002.
William P. Lisowsky,
Area Supervisor, Land Between The Lakes.

[FR Doc. 02-1976 Filed 1-25-02; 8:45 am]

BILLING CODE 3410-11-P